DEPARTMENT OF ENERGY

Federal Energy Regulatory Commission

[Docket No. RP98-290-011]

Viking Gas Transmission Company; Notice of Compliance Filing

July 15, 2004.

Take notice that on July 13, 2004, Viking Gas Transmission Company (Viking) tendered for filing to become part of its FERC Gas Tariff, First Revised Volume No. 1, the following tariff sheets to become effective on August 12, 2004:

Tenth Revised Sheet No. 1

Eleventh Revised Sheet No. 69

Ninth Revised Sheet No. 5

Seventh Revised Sheet No. 5A

Twelfth Revised Sheet No. 82

Seventh Revised Sheet No. 5B

Seventh Revised Sheet No. 5D

Ninth Revised Sheet No. 85

Seventh Revised Sheet No. 5E

Seventh Revised Sheet No. 5F

Fourth Revised Sheet No. 87.01

Tenth Revised Sheet No. 5H

Seventh Revised Sheet No. 15

Seventh Revised Sheet No. 88

Fifth Revised Sheet No. 15E

Fifth Revised Sheet No. 21

Third Revised Sheet No. 89

Fifth Revised Sheet No. 26

Tenth Revised Sheet No. 40

Seventh Revised Sheet No. 90

First Revised Sheet No. 41B

Tenth Revised Sheet No. 50

Eighth Revised Sheet No. 91

Seventh Revised Sheet No. 52

Third Revised Sheet No. 92

Third Revised Sheet No. 93

Fourth Revised Sheet No. 94

Fourth Revised Sheet No. 95

Sixth Revised Sheet No. 96

Fifth Revised Sheet No. 97A

Sixth Revised Sheet No. 136

Viking states that the purpose of this filing is to comply with Article XI of the Stipulation and Agreement (Settlement) in Docket No. RP98-290-001 approved by Letter Order dated May 12, 1999. Article XI provides that Viking would file to cancel Rate Schedule(s) FT-B and FT-C and remove all references to service under these rate schedules upon completion of Stage 4 of the rolled-in rate treatment of its expansion facilities approved by the Commission in Docket No. RP96-32-000 and CP97-93-000.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-1627 Filed 7-21-04; 8:45 am]

BILLING CODE 6717-01-P